FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants

Continental Services & Carrier, Inc., 5579 NW 72 Avenue, Miami, FL 33166. Officers: Rodolfo Luciani, Vice President (Qualifying Individual), Mirtha Lopez, Director.

Transco Shipping Corporation, 18-05 215th Street, Suite PHD, Bayside, NY 11360. Officer: Lihuang Liu, President (Qualifying Individual).

GET ONE LATER, Inc. dba Omega Shipping West, 4379 Sheila Street, Los Angeles, CA 90023. Officers: Katherine Munoz, Secretary (Qualifying Individual), Greg Terrell, President.

Olympia Logistics & Services, Inc., 6304 NW 97th Avenue, Miami, FL 33178. Officers: Huseyin Hakan Sayin, President (Qualifying Individual), Ali Dartar, Vice President.

KBL Container Line, Inc., 547 Adams Avenue, Elizabeth, NJ 07201. Officers: Elizabeth Reyes Rijo, President (Qualifying Individual), Epimenio Moris, Vice President.

Corafisa Lines Inc., 2710 Tanya Terrace, Jacksonville, FL 32223. Officers: Abraham Torres, President (Qualifying Individual), Jose Leandro Reano, Vice President.

US Global Logistics, 540 S. Catalina Street, Suite 209, Los Angeles, CA 90020, Kevin Jung, Sole Proprietor.

International Cargo Consolidators, Corp., 10049 NW 89 Avenue, Bay 3, Medley, FL 33178. Officer: Maria T. Olivero, President (Qualifying Individual).

OXY Cargo Corporation, 5525 Northwest 74 Avenue, Suite 628, Miami, FL 33166. Officer: Carlos Arenas, President (Qualifying Individual).

Ilocandia Express Cargo, Inc., 1806 N. Taft Avenue, Los Angeles, CA 90028. Officers: Rey Dumandan, Vice President, (Qualifying Individual), Alfred D. Jamorabon, President.

Non-Vessel-Operating Common Carrier and Ocean Freight Forwarder Transportation Intermediary Applicants

Boudreau Fine Art Services LLC, 3 Coronet Avenue, Lincroft, NJ 07738. Officer: Gloria M. Valderrama-Boudreau, President, (Qualifying Individual).

PDF Logistics, Inc., 7878 NW. 46th Street, Miami, FL 33166. Officers:Paolo Dal Farra, President (Qualifying Individual), Rossana Dal Farra, Vice President.

THOR Global Logistics, LLC, 8401 FM 3464 Bldg. 2, Laredo, TX 78045. Officers: Rahul Oltikar, Vice President Sales (Qualifying Individual), Juan Arturo Menchaca, President.

Four Point USA, Inc., 6307 NW 99th Avenue, Doral, FL 33178. Officers:Oscar Alvarez, Director (Qualifying Individual), Maria Gabriela de Alvarez, Director.

Matson Global Distribution Services, Inc., 1855 Gateway Blvd., Suite 250, Concord, CA 94520. Officers: Steven T. Rubin, Vice President (Qualifying Individual), Robert Papworth, President.

Mill Wright LLC, 475 Division Street, Elizabeth, NJ 07201. Officers:Nelson Torna, President (Qualifying Individual), John Segledi, Vice President.

Euroworld Transport System America, Inc., 735 N. Water Street, Suite 936, Milwaukee, WI 53202. Officer: Amy Kay Champion, Vice President (Qualifying Individual).

Ocean Freight Forwarder—Ocean Transportation Intermediary Applicants

Raices Express Inc. dba Raices Express, 3521 NW 8th Avenue, Suite #1, Pompano Beach, FL 33064. Officers: Rafael I. Santos, Director (Qualifying Individual), Idelsa A. Santos, Secretary.

Sunshine Shipping, 7802 Westminster Blvd., Westminster, CA 92683, Duc Hein Pham, Sole Proprietor.

Cargo Unlimited Worldwide LLC, dba Cargo Unlimited Worldwide, 3350 Sports Arena Blvd., Suite K, San Diego, CA 92110. Officers: Sharon K. Evans-Plotke, Vice Pres. Of Sales (Qualifying Individual), Kimberly Kobey Pratto, President.

Relogistix, Inc., 20803 Blossom Landing Way, Potomac Falls, VA 20165. Officer: Steven John Tattum, President (Qualifying Individual).

Dated: March 23, 2007.
Bryant L. VanBrakle,
Secretary.

[FR Doc. E7-5688 Filed 3-27-07; 8:45 am]

BILLING CODE 6730-01-P